DEPARTMENT OF ENERGY

Federal Energy Regulatory Commission

Combined Notice of Filings #1

Take notice that the Commission received the following electric corporate filings:

Docket Numbers: EC18-130-000.

Applicants: Wheelabrator Technologies Inc., Wheelabrator Baltimore, L.P., Wheelabrator Bridgeport, L.P., Wheelabrator Falls Inc., Wheelabrator Frackville Energy Company Inc., Wheelabrator Millbury Inc., Wheelabrator North Andover Inc., Wheelabrator Portsmouth Inc., Wheelabrator Ridge Energy Inc., Wheelabrator Saugus Inc., Wheelabrator Shasta Energy Company Inc., Wheelabrator South Broward Inc., Wheelabrator Westchester, L.P.

Description: Application for Authorization Under Section 203 of the Federal Power Act of Wheelabrator Technologies Inc.

Filed Date: 8/2/18.

Accession Number: 20180802-5076.

Comments Due: 5 p.m. ET 8/23/18.

Take notice that the Commission received the following electric rate filings:

Docket Numbers: ER18-1222-003.

Applicants: PSEG Energy Resources & Trade LLC.

Description: Compliance filing: Informational Filing KEC Effective Date to be effective 7/4/2018.

Filed Date: 8/2/18.

Accession Number: 20180802-5018.

Comments Due: 5 p.m. ET 8/23/18.

Docket Numbers: ER18-1724-000.

Applicants: Midcontinent Independent System Operator, Inc.

Description: Report Filing: 2018-08-02_SA 3116 ATC-WPL PCA Refund Report_Hawk to be effective N/A.

Filed Date: 8/2/18.

Accession Number: 20180802-5096.

Comments Due: 5 p.m. ET 8/23/18.

Docket Numbers: ER18-1725-000.

Applicants: Midcontinent Independent System Operator, Inc.

Description: Report Filing: 2018-08-02_SA 3117 ATC-WPL PCA Refund Report_Schofield to be effective N/A.

Filed Date: 8/2/18.

Accession Number: 20180802-5097.

Comments Due: 5 p.m. ET 8/23/18.

Docket Numbers: ER18-1777-002.

Applicants: Meadowlark Wind I LLC.

Description: Tariff Amendment: Second Amendment to Filing to be effective 8/12/2018.

Filed Date: 8/2/18.

Accession Number: 20180802-5093.

Comments Due: 5 p.m. ET 8/23/18.

Docket Numbers: ER18-1824-000.

Applicants: Southwestern Electric Power Company.

Description: Report Filing: Revised and Restated Prescott PSA to be effective N/A.

Filed Date: 7/23/18.

Accession Number: 20180723-5152.

Comments Due: 5 p.m. ET 8/10/18.

Docket Numbers: ER18-2131-000.

Applicants: PJM Interconnection, L.L.C.

Description: Tariff Cancellation: Notice of Cancellation of WMPA, SA No. 4942 to be effective 7/13/2018.

Filed Date: 8/1/18.

Accession Number: 20180801-5153.

Comments Due: 5 p.m. ET 8/22/18.

Docket Numbers: ER18-2132-000

Applicants: PacifiCorp

Description: Tariff Cancellation: Termination of Idaho Power Construct Agmt ? Goshen-Jefferson to be effective 10/18/2018.

Filed Date: 8/2/18

Accession Number: 20180802-5024.

Comments Due: 5 p.m. ET 8/23/18.

Docket Numbers: ER18-2133-000.

Applicants: Wisconsin Electric Power Company.

Description: § 205(d) Rate Filing: Revised Balancing Area Operations Coordination Agreement to be effective 10/2/2018.

Filed Date: 8/2/18.

Accession Number: 20180802-5034.

Comments Due: 5 p.m. ET 8/23/18.

Docket Numbers: ER18-2134-000.

Applicants: PJM Interconnection, L.L.C.

Description: § 205(d) Rate Filing: Amendment to two ISAs, Service Agreement Nos. 3461 and 3467, NQ80 and NQ79 to be effective 11/28/2012.

Filed Date: 8/2/18.

Accession Number: 20180802-5037.

Comments Due: 5 p.m. ET 8/23/18.

Docket Numbers: ER18-2135-000.

Applicants: Southwest Power Pool, Inc.

Description: § 205(d) Rate Filing: Revisions to Extend Tariff Administration between SPP and SPA through 12/31/2018 to be effective 8/1/2018.

Filed Date: 8/2/18.

Accession Number: 20180802-5049.

Comments Due: 5 p.m. ET 8/23/18.

Docket Numbers: ER18-2136-000.

Applicants: Spruance Genco, LLC.

Description: § 205(d) Rate Filing: Revisions to Market-Based Rate Tariff to be effective 10/2/2018.

Filed Date: 8/2/18.

Accession Number: 20180802-5056.

Comments Due: 5 p.m. ET 8/23/18.

Docket Numbers: ER18-2137-000.

Applicants: Big Sky North, LLC.

Description: Baseline eTariff Filing: Master Interconnection Services Agreement to be effective 8/16/2018.

Filed Date: 8/2/18.

Accession Number: 20180802-5072.

Comments Due: 5 p.m. ET 8/23/18.

Docket Numbers: ER18-2138-000.

Applicants: Arizona Public Service Company.

Description: § 205(d) Rate Filing: Service Agreement No. 209—Amendment No. 3 to be effective 7/3/2018.

Filed Date: 8/2/18.

Accession Number: 20180802-5079.

Comments Due: 5 p.m. ET 8/23/18.

Docket Numbers: ER18-2139-000.

Applicants: Central Hudson Gas & Electric Corporation.

Description: § 205(d) Rate Filing: Revision to FERC Rate Schedule 206 to be effective 7/1/2018.

Filed Date: 8/2/18.

Accession Number: 20180802-5086.

Comments Due: 5 p.m. ET 8/23/18.

Docket Numbers: ER18-2140-000.

Applicants: Persimmon Creek Wind Farm 1, LLC.

Description: Baseline eTariff Filing: Application for Market-Based Rate Authority to be effective 8/3/2018.

Filed Date: 8/2/18.

Accession Number: 20180802-5092.

Comments Due: 5 p.m. ET 8/23/18.

Docket Numbers: ER18-2141-000.

Applicants: Antelope Expansion 2, LLC.

Description: Baseline eTariff Filing: Master Interconnection Services Agreement to be effective 8/16/2018.

Filed Date: 8/2/18.

Accession Number: 20180802-5098.

Comments Due: 5 p.m. ET 8/23/18.

Take notice that the Commission received the following public utility holding company filings:

Docket Numbers: PH18-11-000.

Applicants: Canada Pension Plan Investment Board.

Description: FERC 65B Notice of Material Change in Facts and FERC 65 Revised Notification of Holding Company Status of Canada Pension Plan Investment Board.

Filed Date: 8/1/18.

Accession Number: 20180801-5192.

Comments Due: 5 p.m. ET 8/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2018.
Nathaniel J. Davis, Sr.,
Deputy Secretary.

[FR Doc. 2018-16908 Filed 8-7-18; 8:45 am]

BILLING CODE 6717-01-P